DEPARTMENT OF THE TREASURY

Office of Foreign Assets Control

31 CFR Part 589

Publication of Ukraine-Related Web General License 15 and Subsequent Iterations

AGENCY: Office of Foreign Assets Control, Treasury.

ACTION: Publication of web general licenses.

SUMMARY: The Department of the Treasury's Office of Foreign Assets Control (OFAC) is publishing 11 Ukraine-related web general licenses (GLs) in the Federal Register: GL 15, GL 15A, GL 15B, GL 15C, GL 15D, GL 15E, GL 15F, GL 15G, GL 15H, and GL 15I, each of which is now expired and was previously issued on OFAC's website, as well as GL 15J, which was also previously issued on OFAC's website and expires on January 26, 2022.

DATES: GL 15J was issued on December 23, 2020 and expires on January 26, 2022. See SUPPLEMENTARY INFORMATION of this rule for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treasury.gov/ofac.

Background

On March 6, 2014, the President, invoking the authority of, inter alia, the International Emergency Economic Powers Act (50 U.S.C. 1701-1706) (IEEPA), issued Executive Order (E.O.) 13660, “Blocking Property of Certain Persons Contributing to the Situation in Ukraine” (79 FR 13493, March 10, 2014). In E.O. 13660, the President determined that the actions and policies of persons including persons who have asserted governmental authority in the Crimean region without the authorization of the Government of Ukraine that undermine democratic processes and institutions in Ukraine; threaten its peace, security, stability, sovereignty, and territorial integrity; and contribute to the misappropriation of its assets, constitute an unusual and extraordinary threat to the national security and foreign policy of the United States, and declared a national emergency to deal with that threat.

The President subsequently issued E.O. 13661 of March 16, 2014, “Blocking Property of Additional Persons Contributing to the Situation in Ukraine” (79 FR 15535, March 19, 2014), and E.O. 13662 of March 20, 2014, “Blocking Property of Additional Persons Contributing to the Situation in Ukraine” (79 FR 16169, March 20, 2014), pursuant to the national emergency declared in E.O. 13660. E.O. 13661 and E.O. 13662 expanded the scope of the national emergency declared in E.O. 13660. On May 8, 2014, OFAC published the Ukraine Related Sanctions Regulations, 31 CFR part 589 (the “Regulations”), to implement E.O. 13660, E.O. 13661, and E.O. 13662 (79 FR 26365, May 8, 2014). The President has issued additional Executive orders pursuant to the national emergency declared in E.O. 13660, and expanded in E.O. 13661 and E.O. 13662, which are not discussed in this publication as they are not relevant to the web GLs being published.

OFAC, in consultation with the Department of State, issued GL 15 on May 22, 2018, pursuant to the Regulations, to authorize certain transactions and activities with GAZ Group, or entities in which GAZ Group owned, directly or indirectly, a 50 percent or greater interest, that were otherwise prohibited by the Regulations. Subject to certain conditions, GL 15 authorized certain transactions and activities that were ordinarily incident and necessary to the maintenance or wind down of operations, contracts, or other agreements, including the importation of goods, services, or technology into the United States, involving GAZ Group or any other entity in which GAZ Group owned, directly or indirectly, a 50 percent or greater interest and that were in effect prior to April 6, 2018. Subsequently, OFAC issued 10 further iterations of GL 15, which extended the authorization, and in later iterations, broadened the scope of the GL.

On October 19, 2018, OFAC issued GL 15A, which replaced and superseded GL 15; on November 9, 2018, OFAC issued GL 15B, which replaced and superseded GL 15A; on December 7, 2018, OFAC issued GL 15C, which replaced and superseded GL 15B; on December 20, 2018, OFAC issued GL 15D, which replaced and superseded GL 15C; on March 6, 2019, OFAC issued GL 15E, which replaced and superseded GL 15D; on June 26, 2019, OFAC issued GL 15F, which replaced and superseded GL 15E; on November 1, 2019, OFAC issued GL 15G, which replaced and superseded GL 15F; on March 20, 2020, OFAC issued GL 15H, which replaced and superseded GL 15G; on July 16, 2020, OFAC issued GL 15I, which replaced and superseded 15H; and on December 23, 2020, OFAC issued GL 15J, which replaced and superseded GL 15I. GL 15J expires on January 26, 2022. The texts of following 11 Ukraine-related GLs are provided below: GLs 15, 15A, 15B, 15C, 15D, 15E, 15F, 15G, 15H, 15I, and 15J.

OFFICE OF FOREIGN ASSETS CONTROL

Ukraine Related Sanctions Regulations 31 CFR Part 589

General License No. 15

Authorizing Certain Activities Necessary To Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern daylight time, October 23, 2018.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

Andrea Gacki,

Acting Director, Office of Foreign Assets Control.

Dated: May 22, 2018.

OFFICE OF FOREIGN ASSETS CONTROL

Ukraine Related Sanctions Regulations 31 CFR Part 589

General License No. 15A

Authorizing Certain Activities Necessary to Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern standard time, December 12, 2018.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective October 19, 2018, General License No. 15, dated May 22, 2018, is replaced and superseded in its entirety by this General License No. 15A.

Andrea Gacki,

Director, Office of Foreign Assets Control.

Dated: October 19, 2018.

OFFICE OF FOREIGN ASSETS CONTROL

Ukraine Related Sanctions Regulations 31 CFR Part 589

General License No. 15B

Authorizing Certain Activities Necessary to Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern standard time, January 7, 2019.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective November 9, 2018, General License No. 15A, dated October 19, 2018, is replaced and superseded in its entirety by this General License No. 15B.

Andrea Gacki,

Director, Office of Foreign Assets Control.

Dated: November 9, 2018.

OFFICE OF FOREIGN ASSETS CONTROL

Ukraine Related Sanctions Regulations 31 CFR Part 589

General License No. 15C

Authorizing Certain Activities Necessary to Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern standard time, January 21, 2019.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective December 7, 2018, General License No. 15B, dated November 9, 2018, is replaced and superseded in its entirety by this General License No. 15C.

Andrea Gacki,

Director, Office of Foreign Assets Control.

Dated: December 7, 2018.

OFFICE OF FOREIGN ASSETS CONTROL

Ukraine Related Sanctions Regulations 31 CFR Part 589

General License No. 15D

Authorizing Certain Activities Necessary to Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern standard time, March 7, 2019.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective December 20, 2018, General License No. 15C, dated December 7, 2018, is replaced and superseded in its entirety by this General License No. 15D.

Andrea Gacki,

Director, Office of Foreign Assets Control.

Dated: December 20, 2018.

OFFICE OF FOREIGN ASSETS CONTROL

Ukraine Related Sanctions Regulations 31 CFR Part 589

General License No. 15E

Authorizing Certain Activities Necessary to Maintenance or Wind Down of Operations or Existing Contracts With GAZ Group

(a) Except as provided in paragraphs (b) and (c) of this general license, all transactions and activities otherwise prohibited by the Ukraine Related Sanctions Regulations, 31 CFR part 589, that are ordinarily incident and necessary to the maintenance or wind down of operations, contracts, or other agreements, including the importation of goods, services, or technology into the United States, involving GAZ Group or any other entity in which GAZ Group owns, directly or indirectly, a 50 percent or greater interest and that were in effect prior to April 6, 2018, are authorized through 12:01 a.m. eastern daylight time, July 6, 2019.

(b) All funds in accounts of blocked persons identified in paragraph (a) that were blocked as of 12:01 a.m. eastern daylight time, May 22, 2018, remain blocked, except that such funds may be used for maintenance or wind-down activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective March 6, 2019, General License No. 15D, dated December 20, 2018, is replaced and superseded in its entirety by this General License No. 15E.

Andrea Gacki,

Director, Office of Foreign Assets Control.

Dated: March 6, 2019.

OFFICE OF FOREIGN ASSETS CONTROL

Ukraine Related Sanctions Regulations 31 CFR Part 589

General License No. 15F

Authorizing Certain Activities Necessary to Maintenance or Wind Down of Operations or Existing Contracts With GAZ Group, or Certain Automotive Safety Activities

(a) Except as provided in paragraphs (b) and (c) of this general license, all transactions and activities otherwise prohibited by the Ukraine Related Sanctions Regulations, 31 CFR part 589, that are ordinarily incident and necessary to (1) the maintenance or wind down of operations, contracts, or other agreements, including the importation of goods, services, or technology into the United States, involving GAZ Group or any other entity in which GAZ Group owns, directly or indirectly, a 50 percent or greater interest and that were in effect prior to April 6, 2018, or (2) the installation of Electronic Stability Program systems consistent with applicable automotive safety regulatory requirements in vehicles produced by GAZ Group or any other entity in which GAZ Group owns, directly or indirectly, a 50 percent or greater interest, are authorized through 12:01 a.m. eastern standard time, November 8, 2019.

(b) All funds in accounts of blocked persons identified in paragraph (a) that were blocked as of 12:01 a.m. eastern daylight time, May 22, 2018, remain blocked, except that such funds may be used for the activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective June 26, 2019, General License No. 15E, dated March 6, 2019, is replaced and superseded in its entirety by this General License No. 15F.

Andrea Gacki,

Director, Office of Foreign Assets Control.

Dated: June 26, 2019.

OFFICE OF FOREIGN ASSETS CONTROL

Ukraine Related Sanctions Regulations 31 CFR Part 589

General License No. 15G

Authorizing Certain Activities Necessary to Maintenance or Wind Down of Operations or Existing Contracts With GAZ Group, and Certain Automotive Safety and Environmental Activities

(a) Except as provided in paragraphs (b) and (c) of this general license, all transactions and activities otherwise prohibited by the Ukraine Related Sanctions Regulations, 31 CFR part 589, that are ordinarily incident and necessary to (1) the maintenance or wind down of operations, contracts, or other agreements, including the importation of goods, services, or technology into the United States, involving GAZ Group or any other entity in which GAZ Group owns, directly or indirectly, a 50 percent or greater interest and that were in effect prior to April 6, 2018, (2) research and development regarding, and the related purchase, manufacture, and installation of, Electronic Stability Program systems and other advanced driver-assistance systems, or components thereof, consistent with applicable automotive safety regulatory requirements, in vehicles produced by GAZ Group or any other entity in which GAZ Group owns, directly or indirectly, a 50 percent or greater interest, or (3) research and development regarding, and the related purchase, manufacture, and installation of, components necessary to implement Euro ⅚ emissions standards in vehicles produced by GAZ Group or any other entity in which GAZ Group owns, directly or indirectly, a 50 percent or greater interest, are authorized through 12:01 a.m. eastern daylight time, March 31, 2020.

(b) All funds in accounts of blocked persons identified in paragraph (a) that were blocked as of 12:01 a.m. eastern daylight time, May 22, 2018, remain blocked, except that such funds may be used for the activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective November 1, 2019, General License No. 15F, dated June 26, 2019, is replaced and superseded in its entirety by this General License No. 15G.

Andrea Gacki,

Director, Office of Foreign Assets Control.

Dated: November 1, 2019.

OFFICE OF FOREIGN ASSETS CONTROL

Ukraine Related Sanctions Regulations 31 CFR Part 589

General License No. 15H

Authorizing Certain Activities Necessary to Maintenance or Wind Down of Operations or Existing Contracts With GAZ Group, and Certain Automotive Safety and Environmental Activities

(a) Except as provided in paragraphs (b) and (c) of this general license, all transactions and activities otherwise prohibited by the Ukraine Related Sanctions Regulations, 31 CFR part 589, that are ordinarily incident and necessary to (1) the maintenance or wind down of operations, contracts, or other agreements, including the importation of goods, services, or technology into the United States, involving GAZ Group or any other entity in which GAZ Group owns, directly or indirectly, a 50 percent or greater interest and that were in effect prior to April 6, 2018, (2) research and development regarding, and the related purchase, manufacture, and installation of, Electronic Stability Program systems and other advanced driver-assistance systems, or components thereof, consistent with applicable automotive safety regulatory requirements, in vehicles produced by GAZ Group or any other entity in which GAZ Group owns, directly or indirectly, a 50 percent or greater interest, (3) research and development regarding, and the related purchase, manufacture, and installation of, components necessary to implement Euro ⅚ emissions standards in vehicles produced by GAZ Group or any other entity in which GAZ Group owns, directly or indirectly, a 50 percent or greater interest, or (4) the installation of occupant safety systems (including steering wheels, airbags, and seat belts) consistent with applicable automotive safety regulatory requirements in vehicles produced by GAZ Group or any other entity in which GAZ Group owns, directly or indirectly, a 50 percent or greater interest, are authorized through 12:01 a.m. eastern daylight time, July 22, 2020.

(b) All funds in accounts of blocked persons identified in paragraph (a) that were blocked as of 12:01 a.m. eastern daylight time, May 22, 2018, remain blocked, except that such funds may be used for the activities authorized by this general license.

(c) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraph (a) of this general license; or

(3) The unblocking of any property blocked pursuant to any part of 31 CFR chapter V, except as authorized by paragraphs (a) or (b).

(d) U.S. persons participating in transactions authorized by this general license are required, within 10 business days after the expiration date of this general license, to file a comprehensive, detailed report of each transaction, including the names and addresses of parties involved, the type and scope of activities conducted, and the dates on which the activities occurred, with the Office of Foreign Assets Control, Office of Compliance and Enforcement, U.S. Department of the Treasury, 1500 Pennsylvania Avenue NW, Freedman's Bank Building, Washington, DC 20220, or via email to OFACReport@treasury.gov.

(e) Effective March 20, 2020, General License No. 15G, dated November 1, 2019, is replaced and superseded in its entirety by this General License No. 15H.

Andrea Gacki,

Director, Office of Foreign Assets Control.

Dated: March 20, 2020.

OFFICE OF FOREIGN ASSETS CONTROL

Ukraine Related Sanctions Regulations 31 CFR Part 589

General License No. 15I

Authorizing Certain Activities Involving GAZ Group

(a) Except as provided in paragraphs (c) and (d) of this general license, transactions and activities otherwise prohibited by the Ukraine Related Sanctions Regulations, 31 CFR part 589 (URSR), that are ordinarily incident and necessary to the manufacture and sale of existing and new models of vehicles, components, and spare parts, including automobiles, light commercial vehicles, trucks, buses, engines/powertrains, produced by GAZ Group, or any entity in which GAZ Group owns, directly or indirectly, a 50 percent or greater interest, are authorized through 12:01 a.m. eastern standard time, January 22, 2021, including:

• Research, design, development, production, modification, upgrade, certification, distribution, and marketing;

• Provision or receipt of services, including warranty, maintenance, logistics, storage, shipping, insurance, security, brokerage, legal, banking and financial (including financing and renegotiation of debt), technical and engineering, advertising, and customer services;

• Entry into joint ventures, contract manufacturing agreements, supplier contracts, and other new contracts associated with activities authorized by paragraph (a);

• Payment and receipt of dividends and other funds owed by or to GAZ Group relating to activities authorized by paragraph (a);

• The conduct of financial transactions associated with activities authorized by paragraph (a); and

• Activities necessary for compliance with paragraph (f)(1)(i), including financial auditing services.

(b) Except as provided in paragraphs (c) and (d) of this general license, all transactions and activities otherwise prohibited by the URSR that are ordinarily incident and necessary to the maintenance or wind down of operations, contracts, or other agreements involving GAZ Group, or any other entity in which GAZ Group owns, directly or indirectly, a 50 percent or greater interest, and that were in effect prior to April 6, 2018, including the importation of goods, services, or technology into the United States, are authorized through 12:01 a.m. eastern standard time, January 22, 2021.

(c) All funds in accounts of blocked persons identified in paragraphs (a) and (b) that were blocked as of 12:01 a.m. eastern daylight time, May 22, 2018, remain blocked, except that such funds may be used for the activities authorized by this general license.

(d) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraphs (a) and (b) of this general license; or

(3) The unblocking of any property blocked pursuant to any part of 31 CFR chapter V, except as authorized by paragraphs (a) or (b).

(e) U.S. persons participating in transactions authorized by this general license are required, within 10 business days after the expiration date of this general license, to file a detailed report of each transaction, including the names and addresses of parties involved, the type and scope of activities conducted, and the dates on which the activities occurred, via email to OFACReport@treasury.gov (preferred) or mail to Office of Foreign Assets Control, Office of Compliance and Enforcement, U.S. Department of the Treasury, 1500 Pennsylvania Avenue NW, Freedman's Bank Building, Washington, DC 20220.

(f)(1) GAZ Group is required to provide the following information to OFAC:

(i) Audited financial statements and board meeting minutes for GAZ Group, reports of composition and changes to GAZ Group's Board of Directors, lists of any new joint ventures entered into by GAZ Group and any joint ventures under development by GAZ Group in which GAZ Group is a participant, and financing agreements entered into by GAZ Group valued at or exceeding $5 million U.S. dollars. This information must be reported within five days of the close of each calendar quarter.

(ii) Certification that GAZ Group is not acting for or on behalf of Mr. Oleg Deripaska or any other person included on OFAC's list of Specially Designated Nationals and Blocked Persons, and that control over the actions, policies, and decisions of the company rests with GAZ Group's Board of Directors and shareholders. This information must be reported within five days of the close of each calendar month.

(2) Information reported under paragraph (f)(1) of this general license must reference General License 15I and be sent via email to OFACReport@treasury.gov (preferred) or mail to Office of Foreign Assets Control, Office of Compliance and Enforcement, U.S. Department of the Treasury, 1500 Pennsylvania Avenue NW, Freedman's Bank Building, Washington, DC 20220.

(g) Effective July 16, 2020, General License No. 15H, dated March 20, 2020, is replaced and superseded in its entirety by this General License No. 15I.

Andrea Gacki,

Director, Office of Foreign Assets Control.

Dated: July 16, 2020.

OFFICE OF FOREIGN ASSETS CONTROL

Ukraine Related Sanctions Regulations 31 CFR Part 589

General License No. 15I

Authorizing Certain Activities Involving GAZ Group

(a) Except as provided in paragraphs (c) and (d) of this general license, transactions and activities otherwise prohibited by the Ukraine Related Sanctions Regulations, 31 CFR part 589 (URSR), that are ordinarily incident and necessary to the manufacture and sale of existing and new models of vehicles, components, and spare parts, including automobiles, light commercial vehicles, trucks, buses, engines/powertrains, produced by GAZ Group, or any entity in which GAZ Group owns, directly or indirectly, a 50 percent or greater interest, are authorized through 12:01 a.m. eastern standard time, January 26, 2022, including:

• Research, design, development, production, modification, upgrade, certification, distribution, and marketing;

• Provision or receipt of services, including warranty, maintenance, logistics, storage, shipping, insurance, security, brokerage, legal, banking and financial (including financing and renegotiation of debt), technical and engineering, advertising, and customer services;

• Entry into joint ventures, contract manufacturing agreements, supplier contracts, and other new contracts associated with activities authorized by paragraph (a);

• Payment and receipt of dividends and other funds owed by or to GAZ Group relating to activities authorized by paragraph (a);

• The conduct of financial transactions associated with activities authorized by paragraph (a); and

• Activities necessary for compliance with paragraph (f)(1)(i), including financial auditing services.

(b) Except as provided in paragraphs (c) and (d) of this general license, all transactions and activities otherwise prohibited by the URSR that are ordinarily incident and necessary to the maintenance or wind down of operations, contracts, or other agreements involving GAZ Group, or any other entity in which GAZ Group owns, directly or indirectly, a 50 percent or greater interest, and that were in effect prior to April 6, 2018, including the importation of goods, services, or technology into the United States, are authorized through 12:01 a.m. eastern standard time, January 26, 2022.

(c) All funds in accounts of blocked persons identified in paragraphs (a) and (b) that were blocked as of 12:01 a.m. eastern daylight time, May 22, 2018, remain blocked, except that such funds may be used for the activities authorized by this general license.

(d) This general license does not authorize:

(1) The divestiture or transfer of debt, equity, or other holdings in, to, or for the benefit of the blocked persons described above;

(2) Any transactions or dealings otherwise prohibited by any other part of 31 CFR chapter V, or any transactions or dealings with any blocked person other than the blocked persons described in paragraphs (a) and (b) of this general license; or

(3) The unblocking of any property blocked pursuant to any part of 31 CFR chapter V, except as authorized by paragraphs (a) or (b).

(e) U.S. persons participating in transactions authorized by this general license are required, within 10 business days after the expiration date of this general license, to file a detailed report of each transaction, including the names and addresses of parties involved, the type and scope of activities conducted, and the dates on which the activities occurred, via email to OFACReport@treasury.gov (preferred) or mail to Office of Foreign Assets Control, Office of Compliance and Enforcement, U.S. Department of the Treasury, 1500 Pennsylvania Avenue NW, Freedman's Bank Building, Washington, DC 20220.

(f)(1) GAZ Group is required to provide the following information to OFAC:

(i) Audited financial statements and board meeting minutes for GAZ Group, reports of composition and changes to GAZ Group's Board of Directors, lists of any new joint ventures entered into by GAZ Group and any joint ventures under development by GAZ Group in which GAZ Group is a participant, and financing agreements entered into by GAZ Group valued at or exceeding $5 million U.S. dollars. This information must be reported within five days of the close of each calendar quarter.

(ii) Certification that GAZ Group is not acting for or on behalf of Mr. Oleg Deripaska or any other person included on OFAC's list of Specially Designated Nationals and Blocked Persons, and that control over the actions, policies, and decisions of the company rests with GAZ Group's Board of Directors and shareholders. This information must be reported within five days of the close of each calendar month.

(2) Information reported under paragraph (f)(1) of this general license must reference General License 15J and be sent via email to OFACReport@treasury.gov (preferred) or mail to Office of Foreign Assets Control, Office of Compliance and Enforcement, U.S. Department of the Treasury, 1500 Pennsylvania Avenue NW, Freedman's Bank Building, Washington, DC 20220.

(g) Effective December 23, 2020, General License No. 15I, dated July 16, 2020, is replaced and superseded in its entirety by this General License No. 15J.

Bradley T. Smith,

Deputy Director, Office of Foreign Assets Control.

Dated: December 23, 2020.

Dated: July 19, 2021.
Bradley T. Smith,
Acting Director, Office of Foreign Assets Control.

[FR Doc. 2021-15669 Filed 7-27-21; 8:45 am]

BILLING CODE 4810-AL-P